DEPARTMENT OF VETERANS AFFAIRS

Advisory Committee on Cemeteries and Memorials, Notice of Meeting

The Department of Veterans Affairs (VA) gives notice that a meeting of the Advisory Committee on Cemeteries and Memorials, authorized by 38 U.S.C. 2401, will be held Wednesday, November 7, and Thursday, November 8, 2001, from 8:30 a.m. until 4:30 p.m., in Room 230 at the Department of Veterans Affairs Central Office, 810 Vermont Avenue, NW, Washington, DC 20420. This will be the Committee's first meeting of Fiscal Year 2002.

The purpose of the Committee meeting is to review the administration of VA's cemeteries and burial benefits program. On Wednesday, November 7, Committee members will be briefed on National Cemetery Administration (NCA) issues, including the budget, issues related to the provision of headstones and markers, NCA's history program, and legislation, including The Veterans Millennium Health Care and Benefits Act of 1999.

On Thursday, November 8, members of the Committee will be informed about new cemetery construction, the State Cemetery Grants Program and issues related to the administration and maintenance of national cemeteries. Representatives from Arlington National Cemetery, the American Battle Monuments Commission and the National Park Service will provide updates on issues related to their cemeteries.

The meeting will be open to the public. Individuals wishing to attend the meeting should contact Mrs. Paige Lowther, Designated Federal Official, National Cemetery Administration, [phone (202) 273-5157] no latter than 12 noon (ET), October 30, 2001.

Any interested person may attend, appear before, or file a statement with the Committee. Individuals wishing to appear before the Committee should indicate this in a letter to Mrs. Paige Lowther, Designated Federal Official, National Cemetery Administration (40), 810 Vermont Avenue, NW, Washington, DC 20420. In any such letters, the writers must fully identify themselves and state the organization, association or person(s) they represent. In addition, to the extent practicable, letters should indicate the subject matter to be discussed. Oral presentations should be limited to 10 minutes in duration. Individuals wishing to file written statements to be submitted to the Committee must also mail or deliver them to Mrs. Lowther.

Letters and written statements as discussed above must be mailed or delivered in time to reach Mrs. Lowther by 12 noon (ET), October 30, 2001. Oral statements will be heard between 10:00 a.m. and 10:30 a.m. (ET), November 7, 2001, at the Department of Veterans Affairs Central Office, 810 Vermont Avenue, NW, Washington, DC 20420.

Dated: October 5, 2001.
By Direction of the Secretary:
Nora E. Egan,
Committee Management Officer.

[FR Doc. 01-26058 Filed 10-16-01; 8:45 am]

BILLING CODE 8320-01-M